DEPARTMENT OF AGRICULTURE

Agricultural Marketing Service

[Docket No. ST-00-001]

Plant Variety Protection Board; Open Meeting

AGENCY: Agricultural Marketing Service, USDA.

ACTION: Notice of meeting.

SUMMARY: This notice sets forth the schedule and proposed agenda of a forthcoming meeting of the Plant Variety Protection Board.

DATES: March 23, 2000, 9 a.m. to 5 p.m., open to the public.

ADDRESSES: The meeting will be held at the George Washington Carver Center, 5602 Sunnyside Avenue, Beltsville, Maryland, 20705.

FOR FURTHER INFORMATION CONTACT: Ann Marie Thro, Commissioner, Plant Variety Protection Office, Science & Technology, AMS, USDA. Address: Room 500, National Agricultural Library Building, 10301 Baltimore Blvd., Beltsville, MD 20705-2351, (301) 504-5518 or -7475, or fax: (301) 504-5291.

SUPPLEMENTARY INFORMATION: Pursuant to the provisions of section 10(a) of the Federal Advisory Committee At (Pub. L. No. 92-463 5 U.S.C. App.), this notice is given concerning a Plant Variety Protection Board meeting. The Board is constituted under section 7 of the Plant Variety Protection Act (7 U.S.C. 2327).

The proposed agenda for the meeting will include discussions of: Plant Variety Protection Office Application Process, Plant Variety Protection Office Progress Report, and other related topics. Written comments may be submitted to the contact person listed above before or after the meeting.

Dated: February 25, 2000.
Kathleen A. Merrigan,
Administrator, Agricultural Marketing Service.

Tentative Agenda

Plant Variety Protection Board Meeting, March 23, 2000. USDA/AMS/S&T/PVPO—George Washington Carver Center, 5602 Sunnyside Avenue, Beltsville, Maryland, 20705.

Call to Order

Ann Marie Thro, Commissioner, PVPO

Introductions

William J. Franks, Jr., Deputy Administrator, AMS/S&T

Opening Remarks

Kathleen A. Merrigan, Administrator, AMS

Adoption of Agenda

Adoption of 1999 Minutes

Introduction for new Board members to the Plant Variety Protection Act (PVPA) and the Plant Variety Protection Office (PVPO)

Senior Examining Staff, PVPO

PVPO Progress report

Ann Marie Thro, Commissioner, PVPO

Appeals to the Secretary of Agriculture (if any)

Ann Marie Thro, Commissioner, PVPO

Topics brought forward by Board Members

PVPO Board Members

Meeting summary

Ann Marie Thro, Commission, PVPO

Adjourn

[FR Doc. 00-4904 Filed 2-29-00; 8:45 am]

BILLING CODE 3410-02-M